DEPARTMENT OF LABOR

Employment and Training Administration

[TA-W-42,342]

Auburn Hosiery Mills, Inc., a Division of the Kellwood Company, Auburn, KY; Notice of Termination of Investigation

Pursuant to Section 221 of the Trade Act of 1974, an investigation was initiated on November 1, 2002 in response to a worker petition, which was filed by a company official on behalf of workers at Auburn Hosiery Mills, Inc., a division of the Kellwood Company, Auburn, Kentucky.

The petitioner has requested that the petition be withdrawn. Consequently, further investigation in this case would serve no purpose, and the investigation has been terminated.

Signed in Washington, DC, this 8th day of November, 2002.
Linda G. Poole,
Certifying Officer, Division of Trade Adjustment Assistance.

[FR Doc. 02-29698 Filed 11-21-02; 8:45 am]

BILLING CODE 4510-30-P